DEPARTMENT OF THE INTERIOR

Bureau of Reclamation

Third Public Meeting for Reclamation's Managing for Excellence Project

AGENCY: Bureau of Reclamation, Interior.

ACTION: Notice of a public meeting and announcement of subsequent meetings to be held.

SUMMARY: The Bureau of Reclamation is holding a meeting to inform the public about the Managing for Excellence project. This meeting is the third of three previously noticed meetings to be held in 2006 to inform the public about the action items, progress, and results of the Managing for Excellence project and to seek broad feedback. Subsequent meetings will be held in 2007.

DATES: November 13, 2006, 1 p.m. to 6 p.m., and November 14, 2006, 8 a.m. to 5 p.m.

ADDRESSES: Doubletree Hotel Sacramento, 2001 Point West Way, Sacramento, California 95815, Garden and Terrace Rooms.

FOR FURTHER INFORMATION CONTACT: Miguel Rocha (303) 445-2841.

SUPPLEMENTARY INFORMATION: The Managing for Excellence Project will identify and address the specific 21st Century challenges Reclamation must meet to fulfill its mission to manage, develop, and protect water and related resources in an environmentally and economically sound manner in the interest of the American public. This project will examine Reclamation's core capabilities and the agency's ability to respond to both expected and unforeseeable future needs in an innovative and timely manner. This project will result in essential changes in a number of key areas, which are outlined in, Managing for Excellence—An Action Plan for the 21st Century Bureau of Reclamation. For more information regarding the Project, Action Plan, and specific actions being taken, please visit the Managing for Excellence Web page at http://www.usbr.gov/excellence.

Registration

Although you may register the first day of the conference starting at 10 a.m., we highly encourage you to register online at http://www.usbr.gov/excellence, or by phone at 303-445-2808.

Dated: September 27, 2006.
Brenda W. Burman,
Deputy Commissioner—External and Intergovernmental Affairs.

[FR Doc. 06-8539 Filed 10-6-06; 8:45 am]

BILLING CODE 4310-MN-M